DEPARTMENT OF COMMERCE

International Trade Administration

[A-475-818]

Certain Pasta from Italy: Notice of Partial Rescission of Antidumping Duty Administrative Review

AGENCY: Import Administration, International Trade Administration, Department of Commerce.

SUMMARY: In response to requests by Pastificio Carmine Russo S.p.A. and its affiliate, Pastificio DiNola S.p.A. (collectively, Russo/DiNola), and others, the Department of Commerce (the Department) initiated an administrative review of the antidumping duty order on certain pasta (pasta) from Italy for the period July 1, 2003, through June 30, 2004. We initiated the review on a total of seven companies including Russo/DiNola. Based on a timely withdrawal of its request for review, we are rescinding the administrative review of Russo/DiNola. The administrative review of the antidumping duty order continues with respect to Barilla, G.e.R. (Barilla), Corticella Molini E Pastifici S.p.A. and its affiliate Pasta Combattenti S.p.A. (collectively, Corticella/Combattenti), Industria Alimentare Colvaita S.p.A. and its affiliate Fusco S.r.L. (collectively, Indalco), Pastificio Fratelli Pagani S.p.A. (Pagani), Pastificio Antonio Pallante S.r.L. and its affiliate Industrie Alimentari Molisane S.r.L. (collectively, Pallante/IAM) and Pastificio Riscossa F.lli Mastromauro S.r.L. (Riscossa).

EFFECTIVE DATE: December 14, 2004.

FOR FURTHER INFORMATION CONTACT: James Terpstra or Dennis McClure, AD/CVD Operations, Office 3, Import Administration, International Trade Administration, U.S. Department of Commerce, 14th Street and Constitution Avenue, NW, Washington, DC 20230; telephone: (202) 482-3965, or (202) 482-5973, respectively.

SUPPLEMENTARY INFORMATION:

Scope of Review

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white. Also excluded are imports of organic pasta from Italy that are accompanied by the appropriate certificate issued by the Instituto Mediterraneo Di Certificazione, by Bioagricert International (formerly Bioagricoop Scrl), by QC&I International Services, by Ecocert Italia, by Consorzio per il Controllo dei Prodotti Biologici, or by Associazione Italiana per l'Agricoltura Biologica.

The merchandise subject to review is currently classifiable under item 1902.19.20 of the Harmonized Tariff Schedule of the United States (HTSUS). Although the HTSUS subheading is provided for convenience and customs purposes, the written description of the merchandise subject to the order is dispositive.

Background

On July 1, 2004, the Department published a notice of opportunity to request an administrative review of the antidumping duty order on certain pasta from Italy. See Antidumping or Countervailing Duty Order, Finding, or Suspended Investigation; Opportunity to Request Administrative Review, 69 FR 39903 (July 1, 2004). On August 30, 2004, pursuant to requests made by Russo/DiNola, Pagani, Pallante/IAM, Corticella/Combattenti, Indalco, Barilla, and the petitioners (New World Pasta Company, American Italian Pasta Company, and Dakota Growers Pasta Company), the Department initiated an administrative review of the antidumping duty order on certain pasta from Italy. See Initiation of Antidumping and Countervailing Duty Administrative Reviews and Request for Revocation in Part, 69 FR 52857 (August 30, 2004). On October 19, 2004, Russo/DiNola timely withdrew its request for an administrative review.

Rescission of Review

If a party that requested a review withdraws the request within 90 days of the date of publication of notice of initiation of the requested review, the Secretary will rescind the review pursuant to 19 CFR 351.213(d)(1). In this case, Russo/DiNola withdrew its request for an administrative review within 90 days from the date of initiation. No other interested party requested a review of this company. Because Russo/DiNola filed a timely request for withdrawal of this administrative review by the deadline and it was the only request for review made for Russo/DiNola, we are rescinding the antidumping duty administrative review of Russo/DiNola. As a result of this rescission, the administrative review of the antidumping duty order on certain pasta from Italy covering the period July 1, 2003, through June 30, 2004, now covers the following companies: Barilla, Corticella/Combattenti, Indalco, Pagani, Pallante/IAM, and Riscossa.

The Department will issue appropriate assessment instructions directly to U.S. Customs and Border Protection (CBP) within 15 days of the publication of this notice. In accordance with 19 CFR 351.212(c)(1)(i), the Department will direct CBP to assess antidumping duties for each company for which this review is rescinded at rates equal to the cash deposit of estimated antidumping duties required at the time of entry, or withdrawal from warehouse, for consumption, for entries during the period July 1, 2003, through June 30, 2004.

Notification to Importers

This notice serves as a final reminder to importers of their responsibility under 19 CFR 351.402(f) to file a certificate regarding the reimbursement of antidumping and countervailing duties prior to liquidation of the relevant entries during this review period. Failure to comply with this requirement could result in the Secretary's presumption that reimbursement of antidumping and countervailing duties occurred and the subsequent increase in antidumping duties by the amount of antidumping and countervailing duties reimbursed.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This notice is in accordance with section 777(i)(1) of the Act and 19 CFR 251.213(d)(4).

Dated: December 7, 2004.
Barbara E. Tillman,
Acting Deputy Assistant Secretary for Import Administration.

[FR Doc. E4-3640 Filed 12-13-04; 8:45 am]

BILLING CODE 3510-DS-S